DEPARTMENT OF EDUCATION

Applications for New Awards; Technical Assistance on State Data Collection, Analysis, and Reporting—National IDEA Technical Assistance Center on Early Childhood Longitudinal Data Systems

AGENCY: Office of Special Education and Rehabilitative Services, Department of Education.

ACTION: Notice.

Overview Information

Technical Assistance on State Data Collection, Analysis, and Reporting—National IDEA Technical Assistance Center on Early Childhood Longitudinal Data Systems

Notice inviting applications for new awards for fiscal year (FY) 2012.

Catalog of Federal Domestic Assistance (CFDA) Number: 84.373Z.

DATES: Applications Available: August 8, 2012.

Deadline for Transmittal of Applications: September 7, 2012.

Full Text of Announcement

I. Funding Opportunity Description

Purpose of Program: The purpose of the Technical Assistance on State Data Collection program is to improve the capacity of States to meet the Individuals with Disabilities Education Act (IDEA) data collection and reporting requirements. Funding for the program is authorized under section 611(c)(1) of IDEA, which gives the Secretary the authority to reserve funds appropriated under Part B to provide technical assistance (TA) activities authorized under section 616(i). Section 616(i) requires the Secretary to review the data collection and analysis capacity of States to ensure that data and information determined necessary for implementation of section 616 of IDEA are collected, analyzed, and accurately reported. It also requires the Secretary to provide TA, where needed, to improve the capacity of States to meet the data collection requirements under IDEA.

Priority: This priority is from the notice of final priorities for this program, published elsewhere in this issue of the Federal Register.

Absolute Priority: For FY 2012 and any subsequent year in which we make awards from the list of unfunded applicants from this competition, this priority is an absolute priority. Under 34 CFR 75.105(c)(3), we consider only applications that meet this priority.

The priority is:

National IDEA Technical Assistance Center on Early Childhood Longitudinal Data Systems

The purpose of this priority is to fund a cooperative agreement to support the establishment and operation of a National IDEA Technical Assistance Center on Early Childhood Longitudinal Data Systems (Center). This Center will provide TA to States on the development and enhancement of statewide early childhood longitudinal data systems to improve the States' capacity to collect, analyze, and report high-quality data required under sections 616 and 618 of IDEA. This Center must provide TA to States on developing or enhancing statewide early childhood longitudinal data systems that horizontally link child-level data on infants, toddlers, and young children with disabilities (birth through age 5) from one data system to child-level data in other early learning data systems (including those developed with funding provided by the Department's Race to the Top—Early Learning Challenge program), vertically link these child-level data to statewide longitudinal data systems (SLDS) for school-aged children (including those developed with funding provided by the Department's SLDS program), and meet the data system capabilities and elements described under paragraph (b) in the Technical Assistance and Dissemination Activities section of this priority. These statewide early childhood longitudinal data systems should allow States to: (1) Accurately and efficiently respond to IDEA-related data submission requirements (e.g., IDEA sections 616 and 618 requirements); (2) continuously improve processes for defining, acquiring, and validating the data; and (3) comply with applicable Federal, State, and local privacy laws, including the requirements of the Family Educational Rights and Privacy Act and privacy requirements in IDEA. This TA must be focused on building the State's capacity to report high-quality data to meet IDEA reporting requirements and must be conducted in coordination with other SLDS work being conducted in the State.

To be considered for funding under this absolute priority, applicants must meet the application requirements contained in this priority. Any project funded under this priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following Web sites provide more information on logic models: www.researchutilization.org/matrix/logicmodel_resource3c.html and www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A plan for recruiting and selecting a minimum of 10 States to receive intensive TA on developing or enhancing their statewide early childhood longitudinal data systems to improve the States' capacity to collect and report high-quality data required under sections 616 and 618 of IDEA. This TA may include supporting each State in developing a statewide early childhood longitudinal data system that links to other statewide data systems (i.e., other statewide early learning data systems and statewide longitudinal education data systems) in order to accurately and efficiently respond to all of a State's IDEA-related data submission requirements for infants, toddlers, and young children (birth through age 5) with disabilities. The intensive TA may also include enhancing an existing statewide data system (e.g., SLDS) by including the child-level data on infants, toddlers, and young children (birth through age 5) with disabilities that are needed to meet the IDEA reporting requirements. To ensure that the Center provides TA to support States in overcoming the additional challenge of sharing early childhood data between State agencies (e.g., State Department of Health and State Department of Education), when selecting States for intensive TA, a preference must be given to States that have IDEA Part C lead agencies (LAs) that are not the State educational agency (SEA).

Note: The Center must obtain approval from OSEP on the final selection of intensive TA States.

(e) To prevent duplication of TA efforts around early childhood data systems, a plan for, and description of, how the Center will collaborate with the SLDS program (including SLDS TA efforts ¹), the Race to the Top—Early Learning Challenge program, the Common Education Data Standards initiative, the Privacy Technical Assistance Center,² and, as appropriate, other Federal programs that provide TA in the area of early childhood data (e.g., Comprehensive Centers program ³);

¹ More information on the SLDS TA efforts is available at http://nces.ed.gov/programs/slds/pdf/TechAssistance.pdf.

² The Privacy Technical Assistance Center is one component of the Department's comprehensive privacy initiatives. It offers technical assistance to State education agencies, local education agencies, and institutions of higher education related to the Privacy, Security, and Confidentiality of student records. For the Privacy Technical Assistance Center Help Desk, email PrivacyTA@ed.gov or call, toll free, 855-249-3072. For more information, see http://www2.ed.gov/policy/gen/guid/ptac/index.html.

³ The Comprehensive Center program “supports 21 comprehensive centers to help increase state capacity to assist districts and schools meet their student achievement goals. The 16 regional centers provide services primarily to State Education Agencies (SEAs) to enable them to assist school districts and schools, especially low performing schools. At a minimum, each regional center provides training and technical assistance in the implementation and administration of programs authorized under the Elementary and Secondary Education Act (ESEA) and the use of research-based information and strategies. The five content centers focus on specific areas, with one center in each of five areas: assessment and accountability, instruction, teacher quality, innovation and improvement, and high schools. These centers supply much of the research-based information and products in the specific area that regional centers use when working with SEAs.” US Department of Education. Comprehensive Centers Program. Retrieved April 17, 2012 from: http://www2.ed.gov/programs/newccp/index.html.

(f) A budget for a summative evaluation to be conducted by an independent third party;

(g) A budget for attendance at the following:

(1) A one and one-half day kick-off meeting to be held in Washington, DC, after receipt of the award, and an annual planning meeting held in Washington, DC, with the OSEP Project Officer and other relevant staff during each subsequent year of the project period.

Note: Within 30 days of the award a post-award teleconference must be held between the OSEP Project Officer and grantee's project director or other authorized representative.

(2) A three-day Project Directors' Conference in Washington, DC, during each year of the project period.

(3) A two-day Leveraging Resources Conference in Washington, DC, during each year of the project period.

(4) Two two-day trips annually to attend Department briefings, Department-sponsored conferences, and other meetings, as requested by OSEP; and

(h) A line item in the proposed budget for an annual set-aside of five percent of the grant amount to support emerging needs that are consistent with the proposed project's activities, as those needs are identified in consultation with OSEP.

Note: With approval from the OSEP Project Officer, the Center must reallocate any remaining funds from this annual set-aside no later than the end of the third quarter of each budget period.

Project Activities. To meet the requirements of this priority, the Center, at a minimum, must conduct the following activities:

Knowledge Development Activities

(a) Conduct a survey of all 56 Part C LAs and 56 IDEA Part B preschool programs administered by SEAs in the first year to assess their capacity to collect, analyze, and report high-quality data required under sections 616 and 618 of IDEA and identify the policies and practices that facilitate or hinder a statewide early childhood longitudinal data system to link to other early learning data systems and the statewide longitudinal educational data system for school-aged children (e.g., SLDS). Additionally, review State information from sources such as SPPs and APRs to assess State data system and data quality needs for the 56 LAs that have IDEA Part C programs and 56 SEAs that have IDEA Part B preschool programs. The Center must analyze the information from the surveys, SPPs/APRs, and other sources, as appropriate, and prepare papers that summarize the findings that can be disseminated according to a dissemination plan described in paragraph (f) of the Technical Assistance and Dissemination Activities section of this priority. These findings must be used in the selection of States for intensive TA.

(b) Using the findings from the survey described in paragraph (a), identify a minimum of four States to partner with to develop a statewide early childhood longitudinal data system framework (see paragraph (c)). This framework will be a TA resource for other States trying to develop or enhance statewide early childhood longitudinal data systems. Each partnering State must have commitments from its IDEA Part C early intervention and Part B preschool programs to participate in the activities of the Center. Additionally, the partnering States must be a combination of States with Department of Education LAs and non-Department of Education LAs (e.g., State Departments of Health, State Departments of Developmental Services). Factors for consideration in selecting these States could include the demographic and geographic characteristics of the State, the history of data system development in the State, and the collection and analysis of high-quality data required under sections 616 and 618 of IDEA. There may be overlap between these partnering States and those States selected to receive intensive TA. The Center must obtain approval from OSEP on the final selection of partnering States.

Note: To fulfill the requirements of paragraph (b) of the Application Requirements section of this priority, applicants must describe the methods and criteria they propose to use to recruit and select the four partnering States.

(c) Within the first year of the project period, partner with the States identified in paragraph (b) of this section to develop, implement, and evaluate a statewide early childhood longitudinal data system framework for IDEA Part C early intervention and Part B preschool programs. In developing this framework, the Center must work with the partner States to identify, describe, and document the components and processes needed to develop or enhance a statewide early childhood longitudinal data system that provides data necessary to accurately and efficiently respond to reporting requirements under sections 616 and 618 of IDEA and addresses the data system requirements and capabilities listed under paragraph (b) of the Technical Assistance and Dissemination Activities section of this priority. Through this work, the Center must develop guidance and exemplar tools and processes that any State can use to develop or enhance and implement a statewide early childhood longitudinal data system framework within its unique setting.

(d) Develop documents and resources on best practices and lessons learned that can be used to improve States' capacity to develop or enhance their statewide early childhood longitudinal data systems for the purposes of collecting high-quality data required under sections 616 and 618 of IDEA.

Technical Assistance and Dissemination Activities

(a) Provide intensive TA to a minimum of 10 States to develop and implement a project management and data governance plan with the goal of a fully implemented statewide early childhood longitudinal data system, as described in paragraph (b) of this section. The intensive TA will be based on the statewide early childhood longitudinal data system framework described in paragraph (b) of the Knowledge Development Activities section of this priority.

Note: To fulfill the requirements in paragraph (a) in the Technical Assistance and Dissemination Activities section of this priority, applicants must describe the methods and criteria they will use to recruit and select States. The Center must obtain approval from OSEP on the final selection of intensive TA States.

(b) The statewide early childhood longitudinal data system must meet the following requirements:

(1) Have the following specific data system capabilities:

(i) Enable the State staff to efficiently respond to all IDEA-related data submission requirements (e.g., sections 616 and 618 data) with accurate and valid IDEA data by—

(A) Improving the quality of IDEA data related to child find, child count, settings, and educational environments data; and Indicators C2, C5, C6, and B6, which are included in Appendices A and B to this notice, by linking early childhood IDEA Part C and Part B preschool child-level data horizontally to other statewide early learning data systems when available (e.g., child care, home visiting programs, Head Start, Early Head Start, and publicly-funded State preschool programs and services);

(B) Improving the quality of the IDEA data related to early childhood and preschool outcomes; and Indicators C3, C8, B7, and B12 by linking early childhood IDEA Part C and Part B preschool child-level data vertically to other statewide longitudinal education data systems, including those funded under the Department's SLDS grants (e.g., P-12 systems, K-12 systems, P-20 systems, and K-20 systems);

(C) Improving the quality of the IDEA personnel data by linking child-level early childhood IDEA Part C and Part B preschool data with early intervention and preschool service providers so that an individual child may be matched with the particular providers primarily responsible for providing services to that child; and

(D) Improving the quality of the data about personnel providing services under IDEA Part B by linking early intervention and preschool service providers with data on their qualifications, certification, and preparation programs, including the institutions at which providers received their training;

(ii) Enable the State to improve the accuracy of the IDEA data through validity and reliability checks (e.g., data verification) and to provide access to the information needed to analyze and explain progress or slippage in the Parts B and C indicators;

(iii) Enable the State to examine progress in the implementation of IDEA (e.g., improving transitions from Part C to Part B IDEA services) and the outcomes (e.g., social-emotional skills, the use of appropriate behaviors to meet needs, and the acquisition and use of knowledge and skills) over time of infants, toddlers, and young children receiving services under IDEA and ensure data are easily generated for analysis and decision-making, including timely reporting to various IDEA Part C and preschool service providers across the State on the progress of infants, toddlers, and young children receiving services under IDEA; and

(iv) Ensure the quality (i.e., validity and reliability) of all data.

(2) In order to improve the State's capacity to collect and analyze high-quality data, have the following data system elements:

(i) A unique statewide child identifier accepted by, and aligned with, the State's P-20/P-12 unique identifier that does not permit a child to be individually identified by users of the system (except as allowed by Federal and State law).

(ii) An early intervention and preschool service provider identifier system with the ability to match early intervention and preschool service providers to children;

(iii) Child-level enrollment, demographic, and program participation data.

(iv) Child-level data on the identification of the child under IDEA (including data on the timeliness of the child's evaluation and assessment) and services identified as needed and received, including timeliness of services and service settings.

(v) Child and family outcome ⁴ data.

⁴ An outcome is formed by the impact that services and supports have on the functioning of children and families. Early Childhood Outcome Center. Outcomes 101: ECO Q&A. Available at: www.fpg.unc.edu/~eco/pages/faqs_view_item.cfm?id=7. For further information on early childhood child and family outcomes, see the Early Childhood Outcomes (ECO) Center Web site (www.fpg.unc.edu/~eco/index.cfm).

(vi) Child-level data about the points at which children start and stop receiving early intervention services or preschool special education services (including reasons for exiting).

(vii) Child-level data about the extent to which children receive timely transition planning to support their movement to preschool and other appropriate community services by their third birthday.

(viii) A State data audit system to assess data quality (i.e., reliability and validity).

(3) Have a data system interoperability plan that—

(i) Allows for linking the statewide early childhood longitudinal data systems to other statewide longitudinal education data systems and other statewide early learning data systems; and

(ii) Complies with applicable Federal, State, and local privacy laws, including the requirements of FERPA and the privacy requirements in IDEA.

(c) Develop and coordinate a national TA network comprised of a cadre of experts that the Center will use to provide TA to States to assist them in developing or enhancing statewide early childhood longitudinal data systems to improve States' capacity to collect and report high-quality data required under sections 616 and 618 of IDEA, which may include the development of open source data system software that addresses the unique needs of each State. General TA will be provided to all States and intensive TA will be provided to a minimum of 10 States.

(d) Provide a continuum of general TA and dissemination activities (e.g., managing Web sites, listservs, and communities of practice, and holding conferences and training institutes) on best practices that promote the efficient collection of accurate and valid data required under sections 616 and 618 of IDEA to improve the educational results and functional outcomes of all children with disabilities.

(e) Maintain a Web site that meets government or industry-recognized standards for accessibility and that links to the Web site operated by the Technical Assistance Coordination Center (TACC).⁵

⁵ For more information regarding the TACC products and services database, please see: www.tadnet.org.

(f) Prepare and disseminate reports, documents, and other materials on statewide early childhood longitudinal data systems, and related topics as requested by OSEP for specific audiences including IDEA Part C LAs, SEAs, policymakers, local educational agencies, service providers, and teachers. In consultation with the OSEP Project Officer, make selected reports, documents, and other materials available for Part C LAs, SEAs, policymakers, local educational agencies, service providers, and teachers in both English and Spanish.

(g) Develop materials and guidance for States and provide targeted TA related to the performance and compliance indicator(s) on their APRs and SPPs, as requested by OSEP.

Leadership and Coordination Activities

(a) Establish and maintain an advisory committee to review the activities and outcomes of the Center and provide programmatic support and advice throughout the project period. At a minimum, the advisory committee must meet annually in Washington, DC, and consist of representatives of IDEA Part C LAs, representatives of SEAs, individuals with disabilities, other TA providers, parents of individuals with disabilities, data system experts, representatives of other early learning and development programs, representatives of other Federal offices working to improve State data systems, and software developers with expertise in statewide longitudinal data systems and interoperability. The Center must submit the names of proposed members of the advisory committee to OSEP for approval within eight weeks after receipt of the award.

(b) Communicate and collaborate, on an ongoing basis, with OSEP-funded projects and other relevant Federal- funded projects, including the SLDS program, SLDS TA efforts,⁶ the Race to the Top—Early Learning Challenge program, the Common Education Data Standards initiative,⁷ the Privacy Technical Assistance Center, and, as appropriate, other Federal programs that provide TA in the area of early childhood data (e.g., Comprehensive Centers program). This collaboration could include the joint development of products, the coordination of TA services, and the planning and carrying out of TA meetings and events.

⁶ More information on the SLDS TA efforts is available at http://nces.ed.gov/programs/slds/pdf/TechAssistance.pdf.

⁷ “The Common Education Data Standards is a specified set of the most commonly used education data elements to support the effective exchange of data within and across States, as students transition between educational sectors and levels, and for federal reporting.” National Center for Education Statistics. Common Education Data Standards. Retrieved February 8, 2012 from: http://nces.ed.gov/programs/ceds/. For more information, see http://ceds.ed.gov/Default.aspx.

(c) Participate in, organize, or facilitate communities of practice if they align with the needs of the project's target audience. Communities of practice should align with the project's objectives to support discussions and collaboration among key stakeholders. The following Web site provides more information on communities of practice: www.tadnet.org/communities.

(d) Prior to developing any new product, submit a proposal for the product to the TACC database for approval from the OSEP Project Officer. The development of new products should be consistent with the product definition and guidelines posted on the TACC Web site (www.tadnet.org).

(e) Contribute, on an ongoing basis, updated information on the Center's approved and finalized products and services to a database at the TACC.

(f) Coordinate with the National Dissemination Center for Individuals with Disabilities to develop an efficient and high-quality dissemination strategy that reaches broad audiences. The Center must report to the OSEP Project Officer the outcomes of these coordination efforts.

(g) Maintain ongoing communication with the OSEP Project Officer through monthly phone conversations and email communication.

Fourth and Fifth Years of the Project

In deciding whether to continue funding the Center for the fourth and fifth years, the Secretary will consider the requirements of 34 CFR 75.253(a), and in addition—

(a) The recommendation of a review team consisting of experts selected by the Secretary. This review will be conducted during a one-day intensive meeting in Washington, DC, that will be held during the last half of the second year of the project period. The Center must budget for travel expenses associated with this one-day intensive review;

(b) The timeliness and effectiveness with which all requirements of the negotiated cooperative agreement have been or are being met by the Center; and

(c) The quality, relevance, and usefulness of the Center's activities and products and the degree to which the Center's activities and products have contributed to changed practice and improved the States' capacity to collect and report high-quality data required under sections 616 and 618 of IDEA by developing and enhancing of statewide early childhood longitudinal data systems.

Program Authority: 20 U.S.C. 1411(c), 1416(i), and 1418(c).

Applicable Regulations: (a) The Education Department General Administrative Regulations (EDGAR) in 34 CFR parts 74, 75, 77, 79, 80, 81, 82, 84, 86, 97, 98, and 99. (b) The Education Department debarment and suspension regulations in 2 CFR part 3485. (c) The regulations in 34 CFR part 300.702. (d) The notice of final priorities for this program, published elsewhere in this issue of the Federal Register.

Note: The regulations in 34 CFR part 79 apply to all applicants except federally recognized Indian tribes.

Note: The regulations in 34 CFR part 86 apply to institutions of higher education (IHEs) only.

II. Award Information

Type of Award: Cooperative agreement.

Estimated Available Funds: $6,500,000.

Maximum Award: We will reject any application that proposes a budget exceeding $6,500,000 for a single budget period of 12 months. The Assistant Secretary for Special Education and Rehabilitative Services may change the maximum amount through a notice published in the Federal Register.

Estimated Number of Awards: 1.

Note: The Department is not bound by any estimates in this notice.

Project Period: Up to 36 months with an optional additional 24 months based on performance. Applications must include plans for both the 36-month award and the 24-month extension.

III. Eligibility Information

1. Eligible Applicants: State educational agencies (SEAs); local educational agencies (LEAs), including public charter schools that are considered LEAs under State law; IDEA Part C State lead agencies; IHEs; other public agencies; private nonprofit organizations; outlying areas; freely associated States; Indian tribes or Tribal organizations; and for-profit organizations.

2. Cost Sharing or Matching: This program does not require cost sharing or matching.

3. Other: General Requirements—The project funded under this program must make positive efforts to employ and advance in employment qualified individuals with disabilities (see section 606 of IDEA).

IV. Application and Submission Information

1. Address To Request Application Package: You can obtain an application package via the Internet, from the Education Publications Center (ED Pubs), or from the program office.

To obtain a copy via the Internet, use the following address: www.ed.gov/fund/grant/apply/grantapps/index.html.

To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this competition as follows: CFDA Number 84.373Z.

To obtain a copy from the program office, contact the person listed under FOR FURTHER INFORMATION CONTACT in section VII of this notice.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 100 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section (Part III).

We will reject your application if you exceed the page limit; or if you apply other standards and exceed the equivalent of the page limit.

3. Submission Dates and Times:

Applications Available: August 8, 2012.

Deadline for Transmittal of Applications: September 7, 2012.

Applications for grants under this competition may be submitted electronically using the Grants.gov Apply site (Grants.gov), or in paper format by mail or hand delivery. For information (including dates and times) about how to submit your application electronically, or in paper format by mail or hand delivery, please refer to section IV.7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry, and System for Award Management: To do business with the Department of Education, you must—

a. Have a Data Universal Numbering System (DUNS) number and a Taxpayer Identification Number (TIN);

b. Register both your DUNS number and TIN with the Central Contractor Registry (CCR)—and, after July 24, 2012, with the System for Award Management (SAM), the Government's primary registrant database;

c. Provide your DUNS number and TIN on your application; and

d. Maintain an active CCR of SAM registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR or SAM registration process may take five or more business days to complete. If you are currently registered with the CCR, you may not need to make any changes. However, please make certain that the TIN associated with your DUNS number is correct. Also note that you will need to update your CCR registration annually. This may take three or more business days to complete. Information about SAM is available at SAM.gov.

In addition, if you are submitting your application via Grants.gov, you must (1) be designated by your organization as an Authorized Organization Representative (AOR); and (2) register yourself with Grants.gov as an AOR. Details on these steps are outlined at the following Grants.gov Web page: www.grants.gov/applicants/get_registered.jsp.

7. Other Submission Requirements: Applications for grants under this competition may be submitted electronically or in paper format by mail or hand delivery.

a. Electronic Submission of Applications

We are participating as a partner in the Governmentwide Grants.gov Apply site. The National IDEA Technical Assistance Center on Early Childhood Longitudinal Data Systems competition, CFDA number 84.373Z, is included in this project. We request your participation in Grants.gov.

If you choose to submit your application electronically, you must use the Governmentwide Grants.gov Apply site at www.Grants.gov. Through this site, you will be able to download a copy of the application package, complete it offline, and then upload and submit your application. You may not email an electronic copy of a grant application to us.

You may access the electronic grant application for the National IDEA Technical Assistance Center on Early Childhood Longitudinal Data Systems competition at www.Grants.gov. You must search for the downloadable application package for this competition by the CFDA number. Do not include the CFDA number's alpha suffix in your search (e.g., search for 84.373, not 84.373Z).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you submit your application in paper format.

• If you submit your application electronically, you must submit all documents electronically, including all information you typically provide on the following forms: the Application for Federal Assistance (SF 424), the Department of Education Supplemental Information for SF 424, Budget Information—Non-Construction Programs (ED 524), and all necessary assurances and certifications.

• If you submit your application electronically, you must upload any narrative sections and all other attachments to your application as files in a PDF (Portable Document) read-only, non-modifiable format. Do not upload an interactive or fillable PDF file. If you upload a file type other than a read-only, non-modifiable PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail

If you submit your application in paper format by mail (through the U.S. Postal Service or a commercial carrier), you must mail the original and two copies of your application, on or before the application deadline date, to the Department at the following address:

U.S. Department of Education, Application Control Center, Attention: (CFDA Number 84.373Z), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you submit your application in paper format by hand delivery, you (or a courier service) must deliver the original and two copies of your application by hand, on or before the application deadline date, to the Department at the following address:

U.S. Department of Education, Application Control Center, Attention: (CFDA Number 84.373Z), 550 12th Street SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The Standing Panel requirements under section 682(b) of IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR part 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Technical Assistance and Dissemination to Improve Services and Results for Children with Disabilities program. We are proposing to use the measures established for the Technical Assistance and Dissemination to Improve Services and Results for Children with Disabilities program to assess the performance of the Technical Assistance on State Data Collection, Analysis, and Reporting program. The Department will use these measures to assess the extent to which this program provides high-quality products and services, the relevance of project products and services to educational and early intervention policy and practice, and the usefulness of products and services to improve educational and early intervention policy and practice. Grantees will be required to report information on their project's performance in annual reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: Meredith Miceli, U.S. Department of Education, 400 Maryland Avenue SW., room 4069, Potomac Center Plaza (PCP), Washington, DC 20202-2600. Telephone: (202) 245-6028 or by email: meredith.miceli@ed.gov.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: August 2, 2012.
Alexa Posny,
Assistant Secretary for Special Education and Rehabilitative Services.

[FR Doc. 2012-19479 Filed 8-7-12; 8:45 am]

BILLING CODE 4000-01-P